COMMITTEE FOR THE IMPLEMENTATION OF TEXTILE AGREEMENTS

Announcement of Import Restraint Limits for Certain Cotton, Wool and Man-Made Fiber Textiles and Textile Products and Silk Blend and Other Vegetable Fiber Apparel Produced or Manufactured in Malaysia

November 15, 2000.

AGENCY: Committee for the Implementation of Textile Agreements (CITA).

ACTION: Issuing a directive to the Commissioner of Customs establishing limits.

EFFECTIVE DATE: January 1, 2001.

FOR FURTHER INFORMATION CONTACT: Ross Arnold, International Trade Specialist, Office of Textiles and Apparel, U.S. Department of Commerce, (202) 482-4212. For information on the quota status of these limits, refer to the Quota Status Reports posted on the bulletin boards of each Customs port, call (202) 927-5850, or refer to the U.S. Customs website at http://www.customs.gov. For information on embargoes and quota re-openings, call (202) 482-3715.

SUPPLEMENTARY INFORMATION:

Authority: Section 204 of the Agricultural Act of 1956, as amended (7 U.S.C. 1854); Executive Order 11651 of March 3, 1972, as amended.

The import restraint limits for textile products, produced or manufactured in Malaysia and exported during the period January 1, 2001 through December 31, 2001 are based on limits notified to the Textiles Monitoring Body pursuant to the Uruguay Round Agreement on Textiles and Clothing (ATC). In the letter published below, the Chairman of CITA directs the Commissioner of Customs to establish the 2001 limits. Some limits are being reduced for carryforward applied to 2000.

A description of the textile and apparel categories in terms of HTS numbers is available in the CORRELATION: Textile and Apparel Categories with the Harmonized Tariff Schedule of the United States (see Federal Register notice 64 FR 71982, published on December 22, 1999). Information regarding the 2001 CORRELATION will be published in the Federal Register at a later date.

Richard B. Steinkamp,
Chairman, Committee for the Implementation of Textile Agreements.

Committee for the Implementation of Textile Agreements

November 15, 2000.

Commissioner of Customs,

Department of the Treasury, Washington, DC 20229.

Dear Commissioner: Pursuant to section 204 of the Agricultural Act of 1956, as amended (7 U.S.C. 1854); Executive Order 11651 of March 3, 1972, as amended; and the Uruguay Round Agreement on Textiles and Clothing (ATC), you are directed to prohibit, effective on January 1, 2001, entry into the United States for consumption and withdrawal from warehouse for consumption of cotton, wool and man-made fiber textiles and textile products and silk blend and other vegetable fiber apparel in the following categories, produced or manufactured in Malaysia and exported during the twelve-month period beginning on January 1, 2001 and extending through December 31, 2001, in excess of the following limits:

Category | Twelve-month restraint limit
Fabric Group
218-220, 225-227, 313-326, 611-O ¹, 613/614/615/617, 619 and 620, as a group | 158,920,221 square meters equivalent.
Sublevels within the group
218 | 9,118,061 square meters.
219 | 44,171,941 square meters.
220 | 44,171,941 square meters.
225 | 44,171,941 square meters.
226 | 44,171,941 square meters.
227 | 44,171,941 square meters.
313 | 52,682,131 square meters.
314 | 63,380,587 square meters.
315 | 44,171,941 square meters.
317 | 44,171,941 square meters.
326 | 8,541,858 square meters.
611-O | 5,125,115 square meters.
613/614/615/617 | 50,704,472 square meters.
619 | 6,833,487 square meters.
620 | 8,070,366 square meters.
Other specific limits
200 | 363,279 kilograms.
237 | 517,348 dozen.
300/301 | 3,852,993 kilograms.
331/631 | 2,645,408 dozen pairs.
333/334/335/835 | 321,098 dozen of which not more than 192,659 dozen shall be in Category 333 and not more than 192,659 dozen shall be in Category 835.
336/636 | 623,415 dozen.
338/339 | 1,460,280 dozen.
340/640 | 1,800,315 dozen.
341/641 | 2,333,276 dozen of which not more than 832,397 dozen shall be in Category 341.
342/642/842 | 558,870 dozen.
345 | 214,309 dozen.
347/348 | 618,869 dozen.
350/650 | 201,550 dozen.
351/651 | 327,639 dozen.
363 | 5,432,621 numbers.
435 | 16,121 dozen.
438-W ² | 13,193 dozen.
442 | 19,646 dozen.
445/446 | 31,184 dozen.
604 | 1,689,451 kilograms.
634/635 | 1,089,009 dozen.
638/639 | 606,097 dozen.
645/646 | 490,663 dozen.
647/648 | 2,241,004 dozen of which not more than 1,616,304 dozen shall be in Category 647-K ³ and not more than 1,616,304 dozen shall be in Category 648-K ⁴.
Group II
201, 222-224, 239pt. ⁵, 332, 352, 359pt. ⁶, 360-362, 369pt. ⁷, 400-431, 433, 434, 436, 438-O ⁸, 440, 443, 444, 447, 448, 459pt. ⁹, 464, 469pt. ¹⁰, 600-603, 606, 607, 618, 621, 622, 624-629, 633, 643, 644, 649, 652, 659pt. ¹¹, 666, 669pt. ¹², 670, 831, 833, 834, 836, 838, 840, 843-858 and 859pt. ¹³, as a group | 49,251,041 square meters equivalent.
¹Category 611-O: all HTS numbers except 5516.14.0005, 5516.14.0025 and 5516.14.0085
² Category 438-W: only HTS numbers 6104.21.0060, 6104.23.0020, 6104.29.2051, 6106.20.1010, 6106.20.1020, 6106.90.1010, 6106.90.1020, 6106.90.2520, 6106.90.3020, 6109.90.1540, 6109.90.8020, 6110.10.2080, 6110.30.1560, 6110.90.9074 and 6114.10.0040.
³ Category 647-K: only HTS numbers 6103.23.0040, 6103.23.0045, 6103.29.1020, 6103.29.1030, 6103.43.1520, 6103.43.1540, 6103.43.1550, 6103.43.1570, 6103.49.1020, 6103.49.1060, 6103.49.8014, 6112.12.0050, 6112.19.1050, 6112.20,.1060 and 6113.00.9044.
⁴ Category 648-K: only HTS numbers 6104.23.0032, 6104.23.0034, 6104.29.1030, 6104.29.1040, 6104.29.2038, 6104.63.2006, 6104.63.2011, 6104.63.2026, 6104.63.2028, 6104.63.2030, 6104.63.2060, 6104.69.2030, 6104.69.2060, 6104.69.8026, 6112.12.0060, 6112.19.1060, 6112.20.1070, 6113.00.9052 and 6117.90.9070.
⁵ Category 239pt.: only HTS number 6209.20.5040 (diapers).
⁶ Category 359pt.: all HTS numbers except 6406.99.1550.
⁷ Category 369pt.: all HTS numbers except 5601.10.1000, 5601.21.0090, 5701.90.1020, 5701.90.2020, 5702.10.9020, 5702.39.2010, 5702.49.1020, 5702.49.1080, 5702.59.1000, 5702.99.1010, 5702.99.1090, 5705.00.2020 and 6406.10.7700.
⁸ Category 438-O: only HTS numbers 6103.21.0050, 6103.23.0025, 6105.20.1000, 6105.90.1000, 6105.90.8020, 6109.90.1520, 6110.10.2070, 6110.30.1550, 6110.90.9072, 6114.10.0020 and 6117.90.9025.
⁹ Category 459pt.: all HTS numbers except 6405.20.6030, 6405.20.6060, 6405.20.6090, 6405.99.1505 and 6406.99.1560.
¹⁰ Category 469pt.: all HTS numbers except 5601.29.0020, 5603.94.1010 and 6406.10.9020.
¹¹ Category 659pt.: all HTS numbers except 6406.99.1510 and 6406.99.1540.
¹² Category 669pt.: all HTS numbers except 5601.10.2000, 5601.22.0090, 5607.49.3000, 5607.50.4000 and 6406.10.9040.
¹³ Category 859pt.: only HTS numbers 6115.19.8040, 6117.10.6020, 6212.10.5030, 6212.10.9040, 6212.20.0030, 6212.30.0030, 6212.90.0090, 6214.10.2000 and 6214.90.0090.

The limits set forth above are subject to adjustment pursuant to the provisions of the ATC and administrative arrangements notified to the Textiles Monitoring Body.

Products in the above categories exported during 2000 shall be charged to the applicable category limits for that year (see the November 8, 1999 directive) to the extent of any unfilled balances. In the event the limits established for that period have been exhausted by previous entries, such products shall be charged to the limits set forth in this directive.

In carrying out the above directions, the Commissioner of Customs should construe entry into the United States for consumption to include entry for consumption into the Commonwealth of Puerto Rico.

The Committee for the Implementation of Textile Agreements has determined that these actions fall within the foreign affairs exception of the rulemaking provisions of 5 U.S.C. 553(a)(1).

Sincerely,

Richard B. Steinkamp,

Chairman, Committee for the Implementation of Textile Agreements.

[FR Doc. 00-29744 Filed 11-20-00; 8:45 am]

BILLING CODE 3510-DR-F